GENERAL SERVICES ADMINISTRATION

SES Performance Review Board

AGENCY: General Services Administration

ACTION: Notice.

SUMMARY: Notice is hereby given of the appointment of members of the GSA Performance Review Board.

FOR FURTHER INFORMATION CONTACT: Karla J. Hester, Director of Executive Resources, Office of the Chief Human Capital Officer, General Services Administration, 1800 F Street, N.W., Washington, DC 20405, (202) 501-1207.

SUPPLEMENTARY INFORMATION: Section 4313(c)(1) through (5) of title 5 U.S.C. requires each agency to establish, in accordance with regulations prescribed by the Office of Personnel Management, one or more SES performance review board(s). The board reviews and evaluates the initial appraisal of a senior executive’s performance by the supervisor, and considers recommendations to the appointing authority regarding the performance of the senior executive.

The following have been designated as members of the Performance Review Board of the General Services Administration:

John F. Phelps, Chief of Staff -- Chair

David L. Bibb, Deputy Administrator

James A. Williams, Federal Acquisition Service Commissioner

Jon A. Jordan, Federal Acquisition Service Controller

David L. Winstead, Public Buildings Service Commissioner

Anthony E. Costa, Public Buildings Service Deputy Commissioner

Gail T. Lovelace, Chief Human Capital Officer

Alan R. Swendiman, General Counsel

Kathleen M. Turco, Chief Financial Officer

Barbara L. Shelton, Regional Administrator, Mid-Atlantic Region

Peter G. Stamison, Regional Administrator, Pacific Rim Region

Dated: September 15, 2006.
Lurita Doan
Administrator

[FR Doc. E6-16254 Filed 10-2-06; 8:45 am]

BILLING CODE 6820-34-S